DEPARTMENT OF HEALTH AND HUMAN SERVICES

Health Resources and Services Administration

[HRSA-04-030]

Amendment to a Notice of Availability of Funds Announced in the HRSA Preview—Primary Health Care Programs: Community and Migrant Health Centers

AGENCY: Health Resources and Services Administration, HHS.

ACTION: Amendment to a Notice of Availability of Funds announced in the HRSA Preview—Primary Health Care Programs: Community and Migrant Health Centers HRSA-04-030.

SUMMARY: A Notice of Availability of Funds announced in the HRSA Preview, Primary Health Care Programs: Community and Migrant Health Centers HRSA-04-030, was published in the Federal Register on September 4, 2003, (Volume 68, Number 171), FR Doc. 03-22427. On page 52650, under eligibility, the following service areas are added to the list of areas HRSA intends to continue to support health services, given the unmet need inherent in their provisions of services to medically underserved populations. There are no other changes.

Community/Migrant Health Centers
City | State | Expiration date
Contact: Jack Egan 301-594-4339
Hartford | CT | 1/31/2004
Great Barrington | MA | 1/31/2004
Salem | MA | 3/31/2004
Littleton | NH | 6/30/2004
Middletown | CT | 6/30/2004
White Plains | NY | 11/30/2003
Penn Yan | NY | 12/31/2003
Hatillo | PR | 1/31/2004
Bronx | NY | 1/31/2004
Morovis | PR | 1/31/2004
New York | NY | 6/30/2004
Baltimore | MD | 11/30/2003
Contact: Jerri Regan 301-594-4283
Tylertown | MS (2) | 11/30/2003
Miami | FL | 1/31/2004
Pompano Beach | FL | 1/31/2004
Columbia | SC | 1/31/2004
Manning | SC | 1/31/2004
Foley | AL | 2/29/2004
Greensboro | GA | 2/29/2004
Bowling Green | KY | 2/29/2004
Russellville | AL | 6/30/2004
Wilmington | NC | 6/30/2004
Tallahassee | FL | 6/30/2004
Contact: Barbara Bailey 301-594-4317
Houghton Lake | MI | 12/31/2003
Milwaukee | WI | 1/31/2004
Muncie | IN | 2/29/2004
Oak Park | IL | 5/31/2004
Indianapolis | IN | 6/30/2004
Contact: Theresa Watkins-Bryant 301-594-4423
Natchitoches | LA | 1/31/2004
River Ridge | LA | 2/29/2004
Baton Rouge | LA | 5/31/2004
Opelousas | LA | 6/30/2004
Contact: Jerri Regan 301-594-4283
St. Louis | MO | 1/31/2004
Columbia | MO | 6/30/2004
Contact: Theresa Watkins-Bryant 301-594-4423
Green Valley | AZ | 1/31/2004
Los Angeles | CA | 1/31/2004
Larkspur | CA | 2/29/2004
Contact: Barbara Bailey 301-594-4317
Klamath Falls | OR | 12/31/2003

Health Care for the Homeless
City | State | Expiration date
Contact: Jack Egan 301-594-4339
White Plains | NY | 11/30/2003
Contact: Jerri Regan 301-594-4283
Pompano Beach | FL | 1/31/2004
Contact: Theresa Watkins-Bryant 301-594-4423
Honolulu | HI | 10/31/2003
Ventura | CA | 10/31/2003

School-Based Health Centers
City | State | Expiration date
Contact: Jack Egan 301-594-4339
Middletown | CT | 6/30/2004
Boston | MA | 8/31/2004
New York | NY | 6/30/2004
Contact: Jerri Regan 301-594-4283
Wilmington | NC | 6/30/2004
St. Louis | MO | 1/31/2004

Dated: October 8, 2003.
Elizabeth M. Duke,
Administrator.

[FR Doc. 03-26337 Filed 10-17-03; 8:45 am]

BILLING CODE 4165-15-P